DEPARTMENT OF LABOR

Employment and Training Administration

[NAFTA-05047]

Graphic Controls, Cherry Hill Facility Including Temporary Workers of Kaye Personnel, Inc., Cherry Hill, NJ; Amended Certification Regarding Eligibility To Apply for Worker Adjustment Assistance

In accordance with Section 150(A), Subchapter D, Chapter 2, Title II of the Trade Act of 1974 (19 U.S.C. 2273), the Department of Labor issued a Certification for NAFTA Transitional Adjustment Assistance on September 10, 2001, applicable to workers of Graphic Controls, Cherry Hill Facility, Cherry Hill, New Jersey.

The notice was published in the Federal Register on September 21, 2001 (66 FR 48708).

At the request of the State agency, the Department reviewed the certification for workers of the subject firm. Information provided by the State and the company shows that some employees of Graphic Controls were temporary workers from Kaye Personnel, Inc., Cherry Hill, New Jersey to produce softrans intrauterine pressure catheters, cables and leadwires at the Cherry Hill, New Jersey location of the subject firm.

Based on these findings, the Department is amending the certification to include temporary workers of Kaye Personnel, Inc. employed at Graphic Controls, Cherry Hill Facility, Cherry Hill, New Jersey.

The intent of the Department's certification is to include all workers of Graphic Controls, Cherry Hill Facility, Cherry Hill, New Jersey adversely affected by a shift of production to Mexico.

The amended notice applicable to NAFTA-5047 is hereby issued as follows:

All workers of Graphic Controls, Cherry Hill Facility, Cherry Hill, New Jersey including temporary workers of Kaye Personnel, Inc., Cherry Hill, New Jersey engaged in employment related to the production of softrans intrauterine pressure catheters, cables and leadwires at Graphic Controls, Cherry Hill Facility, Cherry Hill, New Jersey who became totally or partially separated from employment on or after June 26, 2000 through September 10, 2003, are eligible to apply for adjustment assistance under Section 223 of the Trade Act of 1974.

Signed at Washington, DC, this 4th day of October, 2001.
Edward A. Tomchick,
Director, Division of Trade Adjustment Assistance.

[FR Doc. 01-26352 Filed 10-18-01; 8:45 am]

BILLING CODE 4510-30-M